SMALL BUSINESS ADMINISTRATION

[Disaster Declaration #20981 and #20982; WEST VIRGINIA Disaster Number WV-20016]

Presidential Declaration Amendment of a Major Disaster for the State of West Virginia

AGENCY: U.S. Small Business Administration.

ACTION: Amendment 3.

SUMMARY: This is an amendment of the Presidential declaration of a major disaster for the State of West Virginia (FEMA-4861-DR), dated February 26, 2025.

Incident: Severe Storm, Straight-line Winds, Flooding, Landslides and Mudslides.

DATES: Issued on April 1, 2025.

Incident Period: February 15, 2025 through February 18, 2025.

Physical Loan Application Deadline Date: April 28, 2025.

Economic Injury (EIDL) Loan Application Deadline Date: November 26, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of West Virginia, dated February 26, 2025, is hereby amended to include the following areas as adversely affected by the disaster:

Primary Counties (Physical Damage and Economic Injury Loans): Raleigh.

Contiguous Counties (Economic Injury Loans Only):

West Virginia: Fayette, Kanawha

All other information in the original declaration remains unchanged.

(Catalog of Federal Domestic Assistance Number 59008)

James Stallings,
Associate Administrator, Office of Disaster Recovery & Resilience.

[FR Doc. 2025-05999 Filed 4-7-25; 8:45 am]

BILLING CODE 8026-09-P